DEPARTMENT OF ENERGY

Federal Energy Regulatory Commission

[Docket Nos. RP00-318-001 and RP01-6-002]

Enbridge Pipelines (KPC); Notice of Compliance Filing

June 25, 2002.

Take notice that on June 20, 2002, Enbridge Pipelines (KPC), formerly Kansas Pipeline Company, (KPC) tendered for filing as part of its FERC Gas Tariff, First Revised Volume No. 1, the revised tariff sheets listed in Appendix A to the filing. An August 1, 2002 effective date is proposed for the revised tariff sheets.

KPC states the filing is being made in compliance with the Commission's May 21, 2002, order on KPC's Order Nos. 587-G, 587L, 637 and 637-A.

KPC states that complete copies of its filing are being mailed to all of the parties on the Commission's Official Service list for these proceedings, all of its jurisdictional customers, and applicable State Commissions.

Any person desiring to protest said filing should file a protest with the Federal Energy Regulatory Commission, 888 First Street, NE., Washington, DC 20426, in accordance with Section 385.211 of the Commission's Rules and Regulations. All such protests must be filed on or before July 2, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-16489 Filed 6-28-02; 8:45 am]

BILLING CODE 6717-01-P